DEPARTMENT OF COMMERCE

National Oceanic and Atmospheric Administration

RIN 0648-XF403

New England Fishery Management Council, Public Hearings

AGENCY: National Marine Fisheries Service (NMFS), National Oceanic and Atmospheric Administration (NOAA), Commerce.

ACTION: Notice; Public hearings, request for comments.

SUMMARY: The New England Fishery Management Council will hold six public hearings and one webinar to solicit comments on the Omnibus Deep Sea Coral Amendment.

DATES: These meetings will be held May 22-26, 2017. For specific dates and times, see SUPPLEMENTARY INFORMATION. Written Public Comments must be received on or before 5 p.m. e.s.t., June 5, 2017; comments received prior to May 25, 2017 will be reviewed by the Habitat Committee at their May 30, 2017 committee meeting.

ADDRESSES: The hearing document is accessible electronically via the internet http://www.nefmc.org/library/omnibus-deep-sea-coral-amendment or by request to Thomas A. Nies, Executive Director, New England Fishery Management Council, 50 Water Street, Mill 2, Newburyport, MA 01950; telephone: (978) 465-0492.

Meeting addresses: The meetings will be held in Montauk, NY, Narragansett, RI, New Bedford, MA, Gloucester, MA, Portsmouth, NH, Ellsworth, ME and via webinar. For specific locations, see SUPPLEMENTARY INFORMATION.

Public Comments: Written public hearing comments on the Omnibus Deep Sea Coral Amendment may be sent by any of the following methods: Mail to Thomas A. Nies, Executive Director, New England Fishery Management Council, 50 Water Street, Mill 2, Newburyport, MA 01950; email to the following address: comments@nefmc.org or fax to (978) 465-3116.

FOR FURTHER INFORMATION: Thomas A. Nies, Executive Director, New England Fishery Management Council; phone: (978) 465-0492.

SUPPLEMENTARY INFORMATION:

Background

The New England Fishery Management Council is conducting seven public hearings to solicit comments on the alternatives under consideration in the Draft Omnibus Deep-Sea Coral Amendment. More specifically, the Council is seeking feedback from the public on which alternatives should be selected and why. These hearings are being held by the Council in accordance with the National Environmental Policy Act. The Council plans to take final action on the amendment during its June 20-22, 2017 meeting in Portland, ME.

Deep-sea corals are fragile, slow-growing organisms that play an important role in the marine ecosystem and are vulnerable to various types of disturbance of the seafloor. The alternatives are designed to reduce the potential impacts of fishing activity on corals, as allowed under the Council's discretionary authority. Restrictions on bottom tending gear are being considered, with possible exemptions for some or all types of fixed gears. Potential coral management areas are located off the eastern Maine coast, in Jordan Basin and Georges Basin in the offshore Gulf of Maine, and in the canyon and slope region south of Georges Bank. The hearings are being held by the Council in accordance with the National Environmental Policy Act.

During each hearing, Council staff will brief the public on the draft amendment before receiving comments. The hearings will begin promptly at the time indicated above. If all attendees who wish to do so have provided their comments prior to the end time indicated, the hearing may conclude early. To the extent possible, the Council may extend hearings beyond the end time indicated above to accommodate all attendees who wish to speak.

Public Hearing, Dates and Locations

1. Monday, May 22, 2017, 6-8 p.m., Montauk Playhouse Community Center, 240 Edgemere Street, Montauk, NY 11954

2. Tuesday, May 23, 2017, 1-3 p.m., University of Rhode Island Bay Campus, Corless Auditorium, 215 South Ferry Road, Narragansett, RI 02882

3. Tuesday, May 23, 2017, 5:30-7:30 p.m., Fairfield Inn and Suites, 185 MacArthur Drive, New Bedford, MA 02740

4. Wednesday, May 24, 2017, 1-3 p.m., Mass. Dept. Marine Fisheries, Annisquam River Marine Fisheries Field Station, 30 Emerson Ave., Gloucester, MA 01930

5. Wednesday, May 24, 2017, 5:30-7:30 p.m., Sheraton Harborside, 250 Market Street, Portsmouth, NH 03801

6. Thursday, May 25, 2017, 5-7 p.m., Ellsworth High School, 299 State Street, Ellsworth, ME 04605

7. Friday, May 26, 2017, 1-2:30 p.m., Via Webinar, Register to listen and participate, https://attendee.gotowebinar.com/register/98257139389273345

Special Accommodations

The meetings are accessible to people with physical disabilities. Requests for sign language interpretation or other auxiliary aids should be directed to Thomas A. Nies (see ADDRESSES) at least 5 days prior to this meeting date.

Authority: 16 U.S.C. 1801 et seq.

Dated: May 4, 2017.
Tracey L. Thompson,
Acting Deputy Director, Office of Sustainable Fisheries, National Marine Fisheries Service.

[FR Doc. 2017-09435 Filed 5-9-17; 8:45 am]

BILLING CODE 3510-22-P